FEDERAL COMMUNICATIONS COMMISSION

47 CFR Part 73

[DA 15-37]

Radio Broadcasting Services; Various Locations

AGENCY: Federal Communications Commission.

ACTION: Final rule.

SUMMARY: The Audio Division amends the FM Table of Allotments to remove certain vacant FM allotments that were auctioned in FM Closed Auction 88 that are currently considered authorized stations. We are also removing certain vacant allotments that were auctioned in FM Auction 93 and FM Auction 94 that are currently considered authorized stations, and other allotments that are not considered vacant allotments. FM assignments for authorized stations and reserved facilities will be reflected solely in Media Bureau's Consolidated Database System (CDBS).

DATES: Effective January 28, 2015.

FOR FURTHER INFORMATION CONTACT: Rolanda F. Smith, Media Bureau, (202) 418-2700.

SUPPLEMENTARY INFORMATION: This is a summary of the Report and Order, DA 15-37, adopted January 8, 2015, and released January 9, 2015. The full text of this document is available for inspection and copying during normal business hours in the Commission's Reference Center, 445 12th Street SW., Washington, DC 20554. The complete text of this document may also be purchased from the Commission's duplicating contractor, Best Copy and Printing, Inc., 445 12th Street SW., Room CY-B402, Washington, DC 20054, telephone 1-800-378-3160 or www.BCPIWEB.com. The Commission will not send a copy of this Report and Order pursuant to the Congressional Review Act, see 5 U.S.C. 801(a)(1)(A), because the adopted rules are rules of particular applicability. This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

List of Subjects in 47 CFR part 73

Radio, Radio broadcasting.

Federal Communications Commission.
Nazifa Sawez,
Assistant Chief, Audio Division, Media Bureau.

For the reasons discussed in the preamble, the Federal Communications Commission amends 47 CFR part 73 as follows:

PART 73—RADIO BROADCASTING SERVICES

1. The authority citation for part 73 continues to read as follows:

Authority: 47 U.S.C. 154, 303, 334, 336 and 339.

§ 73.202 [Amended]

2. Amend § 73.202(b), the Table of FM Allotments, as follows:

a. Remove Pinetop, under Arizona, Channel 294C1.

b. Remove Greenwood, under Arkansas, Channel 268A.

c. Remove Willow Creek, under California, Channel 258A.

d. Remove Durango, under Colorado, Channel 287A; Steamboat Springs, Channel 255A; and Strasburg, Channel 249C3.

e. Remove Cusseta, under Georgia, Channel 279A.

f. Remove Bloomfield, under Indiana, Channel 266A.

g. Remove Transverse City, under Michigan, Channel 283A.

h. Remove Oxford, under Mississippi, Channel 286A.

i. Remove Channel 273A, under New York, at Rosendale.

j. Remove North Madison, under Ohio, Channel 229A.

k. Remove Erie, under Pennsylvania, Channel 240A.

l. Remove Lead, under South Dakota, Channel 232C.

m. Remove Idalou, under Texas, Channel 299A.

n. Remove Alberta, under Virginia, Channel 299A; and Shawsville, Channel 273A.

o. Remove Two Rivers, under Wisconsin, Channel 255A.

p. Remove Santa Isabel, under Puerto Rico, Channel 251A.

[FR Doc. 2015-01595 Filed 1-27-15; 8:45 am]

BILLING CODE 6712-01-P